DEPARTMENT OF AGRICULTURE

Animal and Plant Health Inspection Service

9 CFR Part 3

[Docket No. 93-076-16]

Animal Welfare; Marine Mammals: Delay of Effective Date

AGENCY: Animal and Plant Health Inspection Service, USDA.

ACTION: Final Rule; Delay of Effective Date.

SUMMARY: In accordance with the memorandum of January 20, 2001, from the Assistant to the President and Chief of Staff, entitled “Regulatory Review Plan,” published in the Federal Register on January 24, 2001, this action temporarily delays for 60 days the effective date of the rule entitled Animal Welfare; Marine Mammals, published in the Federal Register on January 3, 2001, 66 FR 239. The rule amends the Animal Welfare Act regulations in 9 CFR part 3 concerning the humane handling, care, treatment, and transportation of marine mammals in captivity. To the extent that 5 U.S.C. section 553 applies to this action, it is exempt from notice and comment because it constitutes a rule of procedure under 5 U.S.C. section 553(b)(A). Alternatively, the Department's implementation of this rule without opportunity for public comment, effective immediately upon publication today in the Federal Register, is based on the good cause exceptions in 5 U.S.C. section 553(b)(B) and 553(d)(3). Seeking public comment is impracticable, unnecessary and contrary to the public interest. The temporary 60-day delay in effective date is necessary to give Department officials the opportunity for further review and consideration of new regulations, consistent with the Assistant to the President's memorandum of January 20, 2001. Given the imminence of the effective date, seeking prior public comment on this temporary delay would have been impractical, as well as contrary to the public interest in the orderly promulgation and implementation of regulations. The imminence of the effective date is also good cause for making this rule effective immediately upon publication.

DATES: The effective date of the Animal Welfare; Marine Mammals regulation, published in the Federal Register on January 3, 2001, at 66 FR 239, is delayed for 60 days, from February 2, 2001, to a new effective date of April 3, 2001.

FOR FURTHER INFORMATION CONTACT: Dr. Barbara Kahn at (301 734-7833.

Dated: January 29, 2001.
Ann M. Veneman,
Secretary.

[FR Doc. 01-2865 Filed 2-1-01; 8:45 am]

BILLING CODE 3410-34-M